GENERAL SERVICES ADMINISTRATION

Federal Travel Regulation (FTR)

[FTR 2005-N1]

eTravel Initiative

AGENCY: Office of Governmentwide Policy (MTT), General Services Administration (GSA).

ACTION: Notice.

SUMMARY: This notice provides information to Federal agencies subject to the Federal Travel Regulation (FTR) that did not award a task order to an eTravel Service (eTS) vendor by December 31, 2004. This notice provides guidance to assist those agencies with this FTR requirement.

DATES: This change is effective February 28, 2005 and expires when all agencies have fully migrated to the new eTravel service.

FOR FURTHER INFORMATION CONTACT: Mr. Tim Burke, Office of Governmentwide Policy (MTT), General Services Administration, 1800 F Street, NW, Washington, DC 20405, by phone at 703-872-8611, or by e-mail at timothy.burke@gsa.gov.

SUPPLEMENTARY INFORMATION: Federal Travel Regulation sections 301-73.2 and 301-73.100 require that all agencies subject to the FTR (with the exception of the Department of Defense (DoD) for its civilian employees and the Government of the District of Columbia) award a task order to an eTravel Service (eTS) vendor no later than December 31, 2004, and fully migrate to eTS agency-wide no later than September 30, 2006.

The General Services Administration (GSA) extends its appreciation to all agencies that successfully met the December 31st eTS vendor award requirement. We are reaching out through this notice, however, specifically to those agencies that for a variety of reasons were unable to meet the requirement and offering our assistance to bring you into compliance with the FTR.

Each agency that encountered a delay with its eTS acquisition and has not yet implemented eTS as required under the FTR must submit a request for an exception to the Administrator of General Services, 1800 F Street, NW, Washington, DC 20405, for consideration of approval. The request must include a complete justification outlining why you need an extension and the date when your agency will award a task order or will agree to be cross-serviced by a franchise organization. Please submit your request and supporting information no later than March 30, 2005.

To ensure compliance with the requirement to completely migrate to eTS by September 30, 2006, all agencies subject to the FTR (with the exception of DoD for its civilian employees and the Government of the District of Columbia as referenced above) should target full migration to eTS no later than June 30, 2006. GSA is committed to helping agencies achieve a smooth and successful transition to eTS by assisting you in effectively determining your eTS strategy, selecting an eTS vendor and awarding a task order, and executing your agency-wide migration to eTS. Working together in a collaborative partnership, we can ensure timely success of this very important Presidential initiative.

Dated: February 17, 2005.
G. Martin Wagner,
Associate Administrator, Office of Governmentwide Policy.

[FR Doc. 05-3722 Filed 2-25-05; 8:45 am]

BILLING CODE 6820-14-S